DEPARTMENT OF TRANSPORTATION

Surface Transportation Board

[STB Docket No. AB 55 (Sub-No. 703X)]

CSX Transportation, Inc.—Abandonment Exemption—in Chesterfield and Darlington Counties, SC

On October 1, 2010, CSX Transportation, Inc. (CSXT), filed with the Surface Transportation Board a petition under 49 U.S.C. 10502 for exemption from the provisions of 49 U.S.C. 10903 to abandon a 2.71-mile line of railroad on its Southern Region, Florence Division, Hamlet Subdivision, between milepost SJ 304.75, at Tabernacle Road, and milepost SJ 307.46, at Bobo Newsome Highway, in Chesterfield and Darlington Counties, S.C. (the line). The line traverses United States Postal Service Zip Codes 29101 and 29550 and includes stations at Darlco, FSAC 71202366, OPSL 2638, milepost SJ 306, and Robinson, FSAC 71202370, OPSL 2640, milepost SJ 307.

In addition to an exemption from the prior approval requirements of 49 U.S.C. 10903, CSXT seeks an exemption from 49 U.S.C. 10904 (offer of financial assistance procedures). In support, CSXT states that, following abandonment of the line, CSXT intends to reclassify the line as spur track and sell or lease it to Progress Energy Carolinas, Inc. (PEC), the sole shipper on the line, which will then use the line for expanded intra-plant operations. This request will be addressed in the final decision. In order to facilitate the reclassification of the line as spur track and the subsequent sale or lease of the line to PEC, CSXT has requested that the Board condition the abandonment upon CSXT and PEC entering an agreement providing for the sale or lease of the line from CSXT to PEC within 30 days after CSXT has consummated the abandonment and reclassified the line as spur track. This request will also be addressed in the final decision.

The line does not contain federally granted rights-of-way. Any documentation in CSXT's possession concerning this matter will be made available promptly to those requesting it.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by January 19, 2011.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than November 10, 2010. Each trail use request must be accompanied by a $250 filing fee. See 49 CFR 1002.2(f)(27).

All filings in response to this notice must refer to Docket No. AB 55 (Sub-No. 703X), and must be sent to: (1) Surface Transportation Board, 395 E Street, SW., Washington, DC 20423-0001; and (2) Louis E. Gitomer, Law Offices of Louis E. Gitomer, 600 Baltimore Avenue, Suite 301, Towson, MD 21204. Replies to CSXT's petition are due on or before November 10, 2010.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA will generally be within 30 days of its service.

This action will not significantly affect either the quality of the human environment or the conservation of energy resources.

Decided: October 18, 2010.
By the Board, Rachel D. Campbell, Director, Office of Proceedings.
Andrea Pope-Matheson,
Clearance Clerk.

[FR Doc. 2010-26544 Filed 10-20-10; 8:45 am]

BILLING CODE 4915-01-P